DEPARTMENT OF LABOR

Occupational Safety and Health Administration

Maritime Advisory Committee for Occupational Safety and Health; Meeting

AGENCY: Occupational Safety and Health Administration (OSHA), Labor.

ACTION: Maritime Advisory Committee for Occupational Safety and Health: Notice of meeting.

SUMMARY: The Maritime Advisory Committee for Occupational Safety and Health (MACOSH) has been established to advise the Assistant Secretary of Labor for OSHA on issues relating to occupational safety and health in the maritime industries. The purpose of this Federal Register notice is to announce the first meeting of the committee.

DATES: The committee will meet on October 15 and 16, 2003. On October 15, the committee will meet from 9 a.m. until 5 p.m.; on October 16, the committee will meet from 8:30 a.m. until approximately 2 p.m.

ADDRESSES: The committee will meet at the U.S. Department of Labor, located at 200 Constitution Avenue, NW., Washington, DC; however, public participants must enter the DOL building at its main entrance at 3rd and C Streets. On October 15, the committee will meet in rooms N-3437A-C; on October 16, the committee will meet in C-5320 Room 6.

Mail comments in response to this notice to the Office of Maritime, OSHA, U.S. Department of Labor, Room N-3609, 200 Constitution Avenue, NW., Washington, DC 20210. Phone: (202) 693-2086; fax: (202) 693-1663.

FOR FURTHER INFORMATION CONTACT: (Press inquiries) Bonnie Friedman, OSHA, Office of Communications, Room N-3647, U.S. Department of Labor, 200 Constitution Avenue, NW., Washington, DC 20210; Telephone: (202) 693-1999.

SUPPLEMENTARY INFORMATION: All interested persons are invited to attend the public meeting of MACOSH. Individuals with disabilities wishing to attend should contact Vanessa L. Welch at (202) 693-2080 no later than October 6 to obtain appropriate accommodations. Entry into the Department of Labor will require screening through security and requires a photo ID.

The meeting's agenda will include discussion of the role of the advisory committee; the committee's goals; current program activities; industry hazards; and organizational and administrative matters.

Public Participation: Written or a request to make an oral presentation on an agenda item may be submitted to Paul Bolon at Office of Maritime, OSHA, U.S. Department of Labor, 200 Constitution Avenue, NW., Room N3609, Washington, DC 20210. A request to make an oral presentation to the commmittee may be granted if time permits. The request should state the amount of time permits. The request should state the amount of time desired, the capacity in which the person will appear, and an outline of the presentation.

Authority: This notice is issued under the authority of sections 6(b)(1) and 7(b) of the Occupational Safety and Health Act of 1970 (29 U.S.C. 655, 656, the Federal Advisory Committee Act (5 U.S.C. App. 2), and 29 CFR part 1912.

Signed at Washington, DC, this 22nd day of September, 2003.
John L. Henshaw,
Assistant Secretary of Labor.

[FR Doc. 03-24660 Filed 9-20-03; 8:45 am]

BILLING CODE 4510-26-M